INTERNATIONAL TRADE COMMISSION

[Investigation Nos. 701-TA-466 and 731-TA-1162 (Final)]

Wire Decking From China; Determinations

On the basis of the record ¹ developed in the subject investigations, the United States International Trade Commission (Commission) determines, pursuant to sections 705(b) and 735(b) of the Tariff Act of 1930 (19 U.S.C. 1671d(b)) and (19 U.S.C. 1673d(b)) (the Act), that an industry in the United States is not materially injured or threatened with material injury, and the establishment of an industry in the United States is not materially retarded, by reason of imports of wire decking from China, provided for in subheadings 9403.90.80, 7217.10, 7217.20, 7326.20, 7326.90, and 9403.20.00 of the Harmonized Tariff Schedule of the United States, that the U.S. Department of Commerce has determined are subsidized and sold in the United States at less than fair value (“LTFV”).²

¹ The record is defined in sec. 207.2(f) of the Commission's Rules of Practice and Procedure (19 CFR 207.2(f)).

² Commissioners Charlotte R. Lane and Irving A. Williamson dissented and determined that an industry in the United States is materially injured by reason of imports of wire decking from China.

Background

The Commission instituted these investigations effective June 5, 2009, following receipt of a petition filed with the Commission and Commerce by AWP Industries, Inc., Frankfort, KY; ITC Manufacturing, Inc., Phoenix, AZ; J&L Wire Cloth, Inc., St. Paul, MN; Nashville Wire Products Mfg. Co., Inc., Nashville, TN; and Wireway Husky Corp., Denver, NC. The final phase of the investigations was scheduled by the Commission following notification of preliminary determinations by Commerce that imports of wire decking from China were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on January 28, 2010 (75 FR 4584). The hearing was held in Washington, DC, on May 27, 2010, and all persons who requested the opportunity were permitted to appear in person or by counsel.

The Commission transmitted its determinations in these investigations to the Secretary of Commerce on July 26, 2010. The views of the Commission are contained in USITC Publication 4172 (July 2010), entitled Wire Decking from China: Investigation Nos. 701-TA-466 and 731-TA-1162 (Final).

Issued: July 26, 2010.
By order of the Commission.
Marilyn R. Abbott,
Secretary to the Commission.

[FR Doc. 2010-18714 Filed 7-29-10; 8:45 am]

BILLING CODE 7020-02-P